NATIONAL SCIENCE FOUNDATION

National Science Board; Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

AGENCY HOLDING MEETING: National Science Board.

DATE AND TIME: May 9, 2013 from 8:15 a.m. to 4:30 p.m., and May 10 from 8:30 a.m. to 3:00 p.m.

PLACE: These meetings will be held at the National Science Foundation, 4201Wilson Blvd., Rooms 1235 and 1295, Arlington, VA 22230. All visitors must contact the Board Office (call 703-292-7000 or send an email message to nationalsciencebrd@nsf.gov) at least 24 hours prior to the meeting and provide name and organizational affiliation. All visitors must report to the NSF visitor desk located in the lobby at the 9th and N. Stuart Streets entrance to receive a visitor's badge.

WEBCAST INFORMATION: Most public meetings and public portions of meetings will be webcast. To view the meetings, go to http://www.tvworldwide.com/events/nsf/130509/ and follow the instructions.

UPDATES: Please refer to the National Science Board Web site for additional information. Meeting information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

Open Sessions

May 9, 2013

8:15-8:20 a.m. (Chairman's introduction)

8:20-10:30 a.m. (CPP)

8:20-10:30 a.m. (SEI)

10:40-11:40 a.m. (A&O)

10:40 a.m.-12:00 p.m. (SCF)

1:30-2:30 p.m. (CSB)

3:00-4:30 p.m. (TF Administrative Burdens)

May 10, 2013

10:30 a.m.-12:00 p.m. (Plenary)

1:00-3:00 p.m. (Plenary)

Closed Sessions

May 9, 2013

1:30-4:00 p.m. (CPP)

2:30-3:00 p.m. (CSB)

May 10, 2013

8:30-9:00 a.m. (Plenary executive closed)

9:00-10:15 a.m. (Plenary closed)

Matters To Be Discussed

Thursday, May 9, 2013

Committee on Programs and Plans

Room 1235 (Board Room)

Open Session: 8:20-10:30 a.m.

• Approval of Open CPP minutes for February 2013

• Committee Chairman's remarks—including update on schedule of action and information items for NSB review (NSB/CPP-13-18)

• Discussion Item: Review and approval of revised CPP charge

• Program Portfolio Discussion: Review of process and next topics

• Program Budget Overview: The White House BRAIN initiative—Brain Research through Advancing Innovative Neurotechnologies

• Polar Issues: End of season report

• Information Item: Laser Interferometer Gravitational Wave Observatory (LIGO) renewal proposal

• Information Item: Advanced Technology Solar Telescope (ATST)

Committee on Science & Engineering Indicators (SEI)

Room 1295

Open Session: 8:20-10:30 a.m.

• Chairman's remarks

• Approval of February meeting minutes (NSB/SEI-13-03)

• Update and discussion of ongoing Indicators-related projects: update on Indicators mobile application; discussion of revised 2012 “STEM Education Data and Trends” online tool (NSB/SEI-13-06); taking advantage of digital delivery for Indicators

• Discussion of a revised proposed topic for a companion report to Indicators 2014 (NSB/SEI-13-05)

• Review and discussion of Indicators 2014 draft chapters

• Chairman's summary

Committee on Audit and Oversight (A&O)

Room 1235

Open Session: 10:40-11:40 a.m.

• Approval of minutes of the February 2013 meeting (NSB/A&O-13-3 and NSB/A&O-13-4)

• Committee Chairman's opening remarks

• OIG semiannual report

• Inspector General's update

• Chief Financial Officer's update

• FY 2012 merit review report

• Report on NSF's use of the Committee of Visitors (COV)—information item

• Periodic review of committee charge

• Committee Chairman's closing remarks

CSB Subcommittee on Facilities (SCF)

Room 1295

Open Session: 10:40 a.m.-12:00 p.m.

• Committee Chair remarks

• Discussion Item: SCF charge and timelines

• Information Item: NSF's planning horizon

• Discussion Item: 2013 annual portfolio review—follow-up from February discussion; portfolio risk survey preliminary results; SCF member priorities

Committee on Strategy and Budget (CSB)

Room 1235

Open Session: 1:30-2:30 p.m.

• Committee Chairman's remarks

• Approval of CSB open minutes for February 2013 meeting (NSB/CSB-13-5) and open CPP-CSB joint minutes for February 2013 meeting (NSB/CSB-13-3)

• NSF FY 2013 budget update

• NSF FY 2014 budget update

• NSF Strategic Plan update

• Study on Trends in Science Budgets

• SCF Chairman's report

Committee on Strategy and Budget (CSB)

Closed Session: 2:30-3:00 p.m.

• Committee Chairman's remarks

• Approval of CSB Closed Minutes for February 2013 meeting (NSB/CSB-13-6) and closed CPP-CSB joint minutes for February 2013 meeting (NSB/CSB-13-4)

• FY 2013 budget update

• FY 2015 budget development

Committee on Programs and Plans (CPP)

Closed Session: 1:30-4:00 p.m.

• Committee Chairman's remarks

• Approval of closed CPP minutes for February 2013

• Implementation of recommendations on Antarctic facilities: FY 2014/2015 budgets

• NSB Information Item: (NSB/CPP-13-22)—Planning and prioritizing infrastructure investments in the Directorate for Geosciences

• NSB Action Items: (NSB/CPP-13-14 and NSB/CPP-15-15)—Geodesy Advancing Geosciences and EarthScope (GAGE) and Seismological Facilities for the Advancement of Geoscience and EarthScope (SAGE)

• NSB Action Item: (NSB/CPP-13-13)—Renewal of Award for Management of the National Center for Atmospheric Research (NCAR)

• NSB Action Item: (NSB/CPP-13-16)—iPlant

Task Force on Administrative Burdens

Room 1235

Open Session: 3:00-4:30 p.m.

• Approval of the April 22, 2013 Teleconference Minutes (NSB/AB-13-5)

• Task Force Chairman's remarks

• Discussion Item: Administrative burdens associated with institutional animal care and use committees (ACUCs)

• Discussion Item: Administrative burdens associated with institutional review boards (IRBs)

• General Discussion—update on request for information (RFI); report outs on roundtable discussions; Omni circular

Friday, May 10, 2013

Plenary Board Meeting

Executive Closed Session: 8:30-9:00 a.m.

• Approval of Executive closed session minutes, February 2013 meeting (NSB-13-13)

• Election of Executive Committee members (NSB-07-53 and NSB/NOMCOM-07-1)

• Board member proposals

Plenary Board Meeting

Closed Session: 9:00-10:15 a.m.

• Approval of closed session minutes, February 2013 (NSB-13-14)

• Awards and Agreements/Resolutions from CPP

○ Directorate for Geosciences (GEO), Division of Earth Sciences (EAR): Seismological Facilities for the Advancement of Geoscience and EarthScope (SAGE) (NSB-13-26)

○ Directorate for Geosciences (GEO), Division of Earth Sciences (EAR): Geodesy Advancing Geosciences and EarthScope (GAGE) (NSB-13-27)

○ Directorate for Geosciences (GEO), Division of Atmospheric and Geospace Sciences (AGS): National Center for Atmospheric Research (NCAR) operation and management (NSB-13-24)

○ Directorate for Biological Sciences (BIO), Division of Biological Infrastructure (DBI): The iPlant Collaborative—Cyberinfrastructure for the Life Sciences (NSB-13-25)

• Closed committee reports

• Discussion of risks to NSF

Plenary Board Meeting

Room 1235

Open Session: 10:30 a.m.-12:00 p.m.

• Presentations by Honorary Award recipients:

○ Alan T. Waterman Award, Dr. Mung Chiang

○ NSB Public Service Award-Individual, Dr. Jo Anne Vasquez

○ Vannevar Bush Award, Dr. Neal Lane

Plenary Board Meeting

Room 1235

Open Session: 1:00-3:00 p.m.

• Approval of open session minutes, February 2013 (NSB-13-15)

• Chairman's report

• NSF plan on open access

• Director's report

• Open committee reports

• Chairman's remarks

Meeting Adjourns: 3:00 p.m.

Ann Bushmiller,
Senior Counsel to the National Science Board.

[FR Doc. 2013-10692 Filed 5-3-13; 8:45 am]

BILLING CODE 7555-01-P